DEPARTMENT OF AGRICULTURE

Agricultural Research Service

Office of the Under Secretary, Research, Education, and Economics; Notice of the Advisory Committee on Agricultural Biotechnology Meeting

AGENCY: Agricultural Research Service, USDA.

ACTION: Notice of meeting.

SUMMARY: In accordance with the Federal Advisory Committee Act, 5 U.S.C. App., the United States Department of Agriculture announces a meeting of the Advisory Committee on Agricultural Biotechnology (ACAB).

DATES: August 1 and 2, 2001, 8:30 a.m. to 5:30 p.m. both days.

ADDRESSES: John Jay Room at the Hay-Adams Hotel, 16th and H Streets, NW., Washington, DC 20006.

FOR FURTHER INFORMATION CONTACT: Michael Schechtman, Designated Federal Official, Office of the Deputy Secretary, USDA, 202B Jamie L. Whitten Federal Building, 12th and Independence Avenue, SW., Washington, DC 20250; Telephone (202) 720-3817; Fax (202) 690-4265; E-mail mschechtman@ars.usda.gov.

SUPPLEMENTARY INFORMATION: The fifth meeting of the ACAB has been scheduled for August 1-2, 2001. The topics to be discussed will include: (1) USDA biotechnology budget priorities for the FY 2003 budget; (2) continued discussion on a draft ACAB report on the future of public plant breeding programs; and (3) continued discussion on gene flow from transgenic crops to other plants and current and potential USDA roles in addressing the issues presented. There will in addition be several updates on current biotechnology developments and on ongoing USDA biotechnology-related activities.

Background information regarding the work of the ACAB is available on the USDA web site at http://www.usda.gov/agencies/biotech/acab.html. Members of the public who wish to make oral statements should also inform Dr. Schechtman in writing or via E-mail at the indicated addresses at least three business days before the meeting. On August 1, 2001, if time permits, reasonable provision will be made for oral presentations of no more than five minutes each in duration.

The meeting will be open to the public, but space is limited. If you would like to attend the meetings, you must register by contacting Ms. Vanessa Simon at (202) 690-8647, by fax at (202) 720-3191 or by E-mail at vsimon@ars.usda.gov at least 5 days prior to the meeting. Please provide your name, title, business affiliation, address, telephone, and fax number when you register. If you require a sign language interpreter or other special accommodation due to disability, please indicate those needs at the time of registration.

Edward B. Knipling,
Associate Administrator.

[FR Doc. 01-17651 Filed 7-13-01; 8:45 am]

BILLING CODE 3410-03-U